DEPARTMENT OF AGRICULTURE

National Agricultural Library

Notice of Intent To Seek Approval To Collect Information

AGENCY: National Agricultural Library, Agricultural Research Service, USDA.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's (NAL) intent to request approval for an electronic mailing list subscription form for people working in water resources and agriculture. This voluntary form gives individuals an opportunity to subscribe to an electronic distribution list (Enviro-News) maintained by the Water Quality Information Center (WQIC) at the NAL.

DATES: Comments on this notice must be received by August 25, 2015 to be assured of consideration.

ADDRESSES: You may submit comments by any of the following methods:

• Agency Web site: http://wqic.nal.usda.gov/contact-us. Follow the instructions for submitting comments on the WQIC Web site.

• Fax: 301-504-5181, Attention: WQIC.

• Mail/Hand Delivery/Courier: WQIC/NAL, 10301 Baltimore Ave., Room 118-F, Beltsville, Maryland 20705-2351.

SUPPLEMENTARY INFORMATION:

Title: Electronic Mailing List Subscription Form—Water Quality Information Center.

OMB Number: 0518-0045.

Expiration Date: 3 years from date of approval.

Type of Request: Renewal of existing data collection from the WQIC distribution list subscribers.

Abstract: The NAL's WQIC maintains an electronic, announcement-only distribution list (Enviro-News). The current voluntary “Electronic Mailing List Subscription Form” gives individuals interested in the subject of water and agriculture an opportunity to subscribe to this list. This form contains six items and is used to collect information about participants who are interested in joining an electronic distribution list (Enviro-News) covering water and agriculture and related topics. The form collects data to improve the relevancy to subscribers of information provided by the distribution list. To ensure that the list meets subscriber needs and to prevent spam during the subscription process, it is necessary to gather this information. The brief questionnaire asks for the person's name, email address, job title, work affiliation, and topics of interest. In addition, a Completely Automated Public Turing Test To Tell Computers and Humans Apart (CAPTCHA) question must be responded to. The online submission form will continue to serve as an efficient vehicle that allows users to register to receive information on water and agriculture and related issues.

Estimate of Burden: Public reporting burden for this collection of information is estimated to average 1.0 minute per response.

Respondents: Water and agriculture researchers and practitioners.

Estimated Number of Respondents: 30 per year.

Estimated Total Annual Burden on Respondents: 0.5 hrs.

Comments

Comments are invited on (a) whether the proposed collection of information is necessary for the proper performance for the functions of the Agency, including whether the information will have practical utility; (b) the accuracy of the Agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: June 12, 2015.
Chavonda Jacobs-Young,
Administrator, Agricultural Research Service.

[FR Doc. 2015-15737 Filed 6-25-15; 8:45 am]

BILLING CODE 3410-12-P